DEPARTMENT OF COMMERCE

National Institute of Standards and Technology

Notice of NIST's Consortium for the Advancement of Genome Editing

AGENCY: National Institute of Standards and Technology (NIST), Commerce.

ACTION: Notice of Research Consortium; extension of Research Consortium.

SUMMARY: The National Institute of Standards and Technology (NIST) extends the duration of the NIST Consortium for the Advancement of Genome Editing (Genome Editing Consortium or Consortium) to December 1, 2025. NIST will now accept letters of interest to participate in this Consortium on an ongoing basis. The Consortium duration was originally through December 1, 2020, and the deadline for letters of interest was originally January 1, 2020. NIST is taking this action to provide additional time for interested parties to join the Consortium and to ensure the successful implementation and achievement of outcomes of the current Consortium activities, as well as to address additional standards needs as defined by the Consortium.

DATES: The Consortium's activities will continue until December 1, 2025. NIST will accept letters of interest to participate in this Consortium on an ongoing basis. Acceptance of participants into the Consortium will depend on the availability of NIST resources.

ADDRESSES: Information in response to this notice, including completed letters of interest or requests for additional information about the Consortium, can be directed via mail to the Consortium Manager, Dr. Samantha Maragh, Biosystems and Biomaterials Division of NIST's Material Measurement Laboratory, 100 Bureau Drive, Mail Stop 8312, Gaithersburg, Maryland 20899, or via electronic mail to samantha@nist.gov, or by telephone at (301) 975-4947.

FOR FURTHER INFORMATION CONTACT: J'aime Maynard, CRADA Administrator, National Institute of Standards and Technology's Technology Partnerships Office, by mail to 100 Bureau Drive, Mail Stop 2200, Gaithersburg, Maryland 20899, by electronic mail to Jaime.maynard@nist.gov, or by telephone at (301) 975-8408.

SUPPLEMENTARY INFORMATION: On January 11, 2018, NIST published a notice in the Federal Register (83 FR 1335), about establishing the Genome Editing Consortium. The notice requested letters of interest on or before January 1, 2020. Multiple parties expressed interest in submitting letters of interest and participating in the Consortium after the original deadline, and have asked for an extension. In light of these requests, NIST extends the term of the Consortium to December 1, 2025, and will accept letters of interest on an ongoing basis. Previously submitted letters of interest do not need to be resubmitted.

(Authority: 15 U.S.C. 3710a)

Kevin A. Kimball,
Chief of Staff.

[FR Doc. 2021-02136 Filed 2-1-21; 8:45 am]

BILLING CODE 3510-13-P